DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 16, 2008. Address written comments to Statutory Import Programs Staff, Room 2104, U.S. Department of Commerce, Washington, DC 20230. Applications may be examined between 8:30 a.m. and 5 p.m. at the U.S. Department of Commerce in Room 2104.

Docket Number: 08-014. Applicant: Ohio State University, Materials Science and Engineering, 2041 College Rd., Columbus, OH 43210. Instrument: Transmission Electron Microscope. Manufacturer: FEI Company/Philips Electron Optics, the Netherlands. Intended Use: The instrument is intended to be used to study different types of solid state materials. It will be used for general morphological and structural studies of ceramics, metals, including high-temperature superconductors, high-temperature metal alloys, evaporated metal films, silicon-germanium quantum dots, soils and geological materials and polymers. The transmission electron microscope will be used to measure the morphology and orientation of grains and particles, as well as the structure, long and short range ordering, number and type of defects and the elemental composition of various phases in the materials. Application accepted by Commissioner of Customs: April 28, 2008.

Docket Number: 08-015. Applicant: Texas Children's Hospital, 6621 Fannin St., Houston, TX 77030. Instrument: Transmission Electron Microscope. Manufacturer: FEI Company, Czech Republic. Intended Use: The instrument is intended to be used to analyze the ultrastructural features and characteristics of biomedical and transgenic research samples. The instrument will be used for tumor classification or evaluation of research protocols for various cancer therapies. Application accepted by Commissioner of Customs: April 24, 2008.

Docket Number: 08-020. Applicant: Bergen County Technical Schools/Bergen County Academies, 200 Hackensack Ave., Hackensack, NJ 07601. Instrument: Scanning Electron Microscope. Manufacturer: FEI Company, Czech Republic. Intended Use: The instrument is intended to be used to explore nanoscale materials and phenomena, to characterize material composition, orientation and interactions in 2 and 3 dimensions, and, in conjunction with lithography, to create material structures unachievable through other means. Application accepted by Commissioner of Customs: May 2, 2008.

Dated: May 16, 2008.
Faye Robinson,
Director, Statutory Import Programs Staff.

[FR Doc. E8-11563 Filed 5-23-08; 8:45 am]

BILLING CODE 3510-DS-M